DEPARTMENT OF AGRICULTURE

Agricultural Marketing Service

[Doc. No.: AMS-DA-15-0020]

Notice of Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request a revision to the currently approved information collection for the Regulations Governing the Inspection and Grading Services of Manufactured or Processed Dairy Products, and the Certification of Sanitary Design and Fabrication of Equipment Used in the Slaughter, Processing, and Packaging of Livestock and Poultry Products.

DATES: Comments received by July 27, 2015 will be considered.

ADDRESSES: Interested persons are invited to submit comments concerning this information collection document. Comments should be submitted online at www.regulations.gov or sent to Diane D. Lewis, USDA/AMS/Dairy Programs, Dairy Grading and Standardization Division, Room 2747-South Building, 1400 Independence Avenue SW., Washington, DC 20250-0230; Tel: (202) 690-0530, Fax: (202) 720-2643, or via email at Diane.Lewis@ams.usda.gov.

All comments will be posted without change, including any personal information provided, online at http://www.regulations.gov and will be made available for public inspection at the above physical address during business hours.

FOR FURTHER INFORMATION CONTACT: Diane D. Lewis, at the above physical address, by telephone (202) 690-0530, or by email at Diane.Lewis@ams.usda.gov.

SUPPLEMENTARY INFORMATION:

Title: Reporting Requirements Under Regulations Governing the Inspection and Grading Services of Manufactured or Processed Dairy Products.

OMB Number: 0581-0126.

Expiration Date of Approval: October 31, 2015.

Type of Request: Extension and revision of a currently approved information collection.

Abstract: The Agricultural Marketing Act (AMA) of 1946 (7 U.S.C. 1621 et seq.) directs the Department to develop programs which will provide for and facilitate the marketing of agricultural products. One of these programs is the USDA voluntary inspection and grading program for dairy products, its regulations are contained in (7 CFR part 58). The regulations governing the certification of sanitary design and fabrication of equipment used in the slaughter, processing, and packaging of livestock and poultry products are contained in (7 CFR part 54). In order for a voluntary inspection program to perform satisfactorily, there must be written requirements and rules for both Government and industry. The information requested is used to identify the products offered for grading; to identify a request from a manufacturer of equipment used in dairy, meat or poultry industries for evaluation regarding sanitary design and construction; to identify and contact the party responsible for payment of the inspection, grading or equipment evaluation fee and expense; and to identify applicants who wish to be authorized for the display of official identification on product packaging, materials, equipment, utensils, or on descriptive promotional materials.

Estimate of Burden: Public reporting burden for this collection of information is estimated to average .03 hours per response.

Respondents: Dairy product manufacturers, consultants, installers, dairy equipment fabricators and meat and poultry processing equipment fabricators.

Estimated Number of Respondents: 681.

Estimated Total Annual Responses: 13229.

Estimated Number of Responses per Respondent: 19.42.

Estimated Total Annual Burden on Respondents: 457 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval. All comments will become a matter of public record.

Dated: May 21, 2015.
Erin M. Morris,
Associate Administrator, Agricultural Marketing Service.

[FR Doc. 2015-12813 Filed 5-27-15; 8:45 am]

BILLING CODE 3410-02-P